DEPARTMENT OF STATE

[Public Notice 3987]

United States International Telecommunication Advisory Committee Telecommunication Advisory Committee Radiocommunication Sector (ITAC-R); Notice of Meeting

The Department of State announces a meeting of the National Committee of the Radiocommunications Sector of the U.S. International Telecommunication Advisory Committee. The purpose of the Committee is to advise the Department on policy and technical issues with respect to the International Telecommunication Union (ITU). This meeting will address ongoing activities of the Study Groups in the Radiocommunications Sector, preparations for the upcoming WRC-03 and guidelines for ITAC-R participation.

• The ITAC R will meet from 1:30 to 3:30 on June 21, 2002 at the Department of State in Room 1408.

Persons intending to attend the meeting should send a fax to (202) 647-7407 not later than 24 hours before the meeting. On this fax, please include the name of the meeting, your name, social security number, date of birth and organization. One of the following valid photo identifications will be required for admittance: U.S. driver's license with your picture on it, U.S. passport, or U.S. Government identification (company ID's are no longer accepted by Diplomatic Security). Directions to the meeting location and on which entrance to use may be determined by calling the ITAC Secretariat at 202 647-2592 or e-mail to worsleydm@state.gov. Attendees may join in the discussions, subject to the instructions of the Chair. Admission of participants will be limited to seating available.

Dated: May 24, 2002.
Cecily Holiday,
Director, ITU-R Affairs, Department of State.

[FR Doc. 02-14064 Filed 6-4-02; 8:45 am]

BILLING CODE 4710-45-P